DEPARTMENT OF THE INTERIOR

National Park Service

[N6692; NPS-WASO-NAGPRA-NPS0041402; PPWOCRADN0-PCU00RP14.R50000]

Notice of Inventory Completion: Claremont Colleges Services, Claremont, CA

AGENCY: National Park Service, Interior.

ACTION: Notice.

SUMMARY: In accordance with the Native American Graves Protection and Repatriation Act (NAGPRA), the Claremont Colleges Services has completed an inventory of human remains and has determined that there is a cultural affiliation between the human remains and Indian Tribes or Native Hawaiian organizations in this notice.

DATES: Repatriation of the human remains in this notice may occur on or after January 16, 2026.

ADDRESSES: Send written requests for repatriation of the human remains in this notice to Stig Lanesskog, Claremont Colleges Services, Administrative Campus Center, 101 South Mills Avenue, Claremont, CA 91711, email stig.lanesskog@claremont.edu.

SUPPLEMENTARY INFORMATION: This notice is published as part of the National Park Service's administrative responsibilities under NAGPRA. The determinations in this notice are the sole responsibility of the Claremont Colleges Services and additional information on the determinations in this notice, including the results of consultation, can be found in its inventory or related records. The National Park Service is not responsible for the determinations in this notice.

Abstract of Information Available

Human remains representing, at least, one individual have been identified. No associated funerary objects are present. In 1968, construction workers uncovered a burial site in Ganesha Park, Pomona, CA. The Los Angeles County coroner determined the remains to be Native American. Following this inadvertent discovery, two professors, Thomas Blackburn of Cal Poly Pomona and John S. Belmont of Pitzer College, Claremont, excavated the site. Later that year, Professor Belmont asked the coroner to release the remains to the Claremont Colleges Museum “in order that all material from this site be brought together in one institution for study.” The following year, Professor Belmont left Pitzer College, and the remains were lost until discovered in a hidden cabinet in the Professor's former office in June of 2025.

Cultural Affiliation

Based on the information available and the results of consultation, cultural affiliation is reasonably identified by the geographical location or acquisition history of the human remains described in this notice.

Determinations

The Claremont Colleges Services has determined that:

• The human remains described in this notice represent the physical remains of one individual of Native American ancestry.

• There is a connection between the human remains described in this notice and the Yuhaaviatam of San Manuel Nation (previously listed as San Manuel Band of Mission Indians, California).

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 16, 2026. If competing requests for repatriation are received, the Claremont Colleges Services must determine the most appropriate requestor prior to repatriation. Requests for joint repatriation of the human remains are considered a single request and not competing requests. The Claremont Colleges Services is responsible for sending a copy of this notice to the Indian Tribes and Native Hawaiian organizations identified in this notice and any other consulting parties.

Authority: Native American Graves Protection and Repatriation Act, 25 U.S.C. 3003, and the implementing regulations, 43 CFR 10.10.

Dated: November 21, 2025.
Melanie O'Brien,
Manager, National NAGPRA Program.

[FR Doc. 2025-23010 Filed 12-16-25; 8:45 am]

BILLING CODE 4312-52-P